SECURITIES AND EXCHANGE COMMISSION

[File No. 500-1]

In the Matter of Ragen Corp. Rainwire Partners, Inc., Rako Capital Corp., Ramtek Corp. (n/k/a Ramtek I Corp.), Ranger Industries, Inc., RCS Holdings, Inc., and Recycling Industries, Inc., Respondents.; Order of Suspension of Trading

September 19, 2008.

It appears to the Securities and Exchange Commission that there is a lack of current and accurate information concerning the securities of Ragen Corp. because it has not filed any periodic reports since the period ended June 30, 1993.

It appears to the Securities and Exchange Commission that there is a lack of current and accurate information concerning the securities of Rainwire Partners, Inc. because it has not filed any periodic reports since the period ended March 31, 2003.

It appears to the Securities and Exchange Commission that there is a lack of current and accurate information concerning the securities of Rako Capital Corp. because it has not filed any periodic reports since the period ended March 31, 2003.

It appears to the Securities and Exchange Commission that there is a lack of current and accurate information concerning the securities of Ramtek Corp. (n/k/a Ramtek I Corp.) because it has not filed any periodic reports since April 2, 1993.

It appears to the Securities and Exchange Commission that there is a lack of current and accurate information concerning the securities of Ranger Industries, Inc. because it has not filed any periodic reports since September 30, 2003.

It appears to the Securities and Exchange Commission that there is a lack of current and accurate information concerning the securities of RCS Holdings, Inc. because it has not filed any periodic reports since January 31, 2002.

It appears to the Securities and Exchange Commission that there is a lack of current and accurate information concerning the securities of Recycling Industries, Inc. because it has not filed any periodic reports since December 31, 1998.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on September 19, 2008, through 11:59 p.m. EDT on October 2, 2008.

By the Commission.
J. Lynn Taylor,
Assistant Secretary.

[FR Doc. E8-22380 Filed 9-19-08; 4:15 pm]

BILLING CODE 8010-01-P